DEPARTMENT OF THE INTERIOR

National Park Service

[NPS-WASO-NAGPRA-NPS0023930; PPWOCRADN0-PCU00RP14.R50000]

Notice of Inventory Completion: Kansas State University, Manhattan, KS

AGENCY: National Park Service, Interior.

ACTION: Notice.

SUMMARY: Kansas State University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice who wish to request transfer of control of these human remains and associated funerary objects should submit a written request to the Kansas State University. If no additional requestors come forward, transfer of control of the human remains and associated funerary objects to the lineal descendants, Indian Tribes, or Native Hawaiian organizations stated in this notice may proceed.

DATES: Lineal descendants or representatives of any Indian Tribe or Native Hawaiian organization not identified in this notice who wish to request transfer of control of these human remains and associated funerary objects should submit a written request with information in support of the request to Kansas State University at the address in this notice by October 23, 2017.

ADDRESSES: Dr. Lauren W. Ritterbush, Department of Sociology, Anthropology, and Social Work, Kansas State University, 204 Waters Hall, 1603 Old Claflin Place, Manhattan, KS 66506-4003, telephone (785)-532-6828, email lritterb@ksu.edu.

SUPPLEMENTARY INFORMATION: Notice is here given in accordance with the Native American Graves Protection and Repatriation Act (NAGPRA), 25 U.S.C. 3003, of the completion of an inventory of human remains and associated funerary objects under the control of Kansas State University, Manhattan, KS. The human remains and associated funerary objects were removed from Calovich Mound (14WY7), Wyandotte County, KS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kansas State University professional staff in consultation with representatives of the Iowa Tribe of Kansas & Nebraska; Iowa Tribe of Oklahoma; Kaw Nation, Oklahoma; Otoe-Missouria Tribe of Indians, Oklahoma; Pawnee Nation of Oklahoma; and Ponca Tribe of Indians of Oklahoma.

History and Description of the Remains

In 1962, with follow-up work in 1963 and 1965, human remains representing, at minimum, 79 individuals and associated objects were removed from Calovich Mound (14WY7) in Wyandotte County, KS. The human remains were removed during excavations as part of a University of Kansas field class under the direction of Drs. William Bass and Robert Squier. The human remains were curated at the University of Kansas until 1975 when they were transferred to the physical anthropology laboratory at Kansas State University for analysis. Analysis was completed by a Wichita State University Master's student, Ms. Ethne Barnes (1977). The human remains included male and female individuals ranging in age from newborn to adults 60 years or older with 38% infants, 34% children, 4% adolescents, and 24% adults. No known individuals were identified. The present collection holds 60 associated funerary objects including 1 partial bone pendant, 3 shell pendants, 13 shell disk beads, and 43 pieces of unmodified freshwater mussel shell. Other objects were identified during the analysis but are not present in the collection.

Calovich Mound is assigned to the Steed-Kisker phase of the Late Prehistoric (Middle Ceramic) period with a single radiocarbon date suggesting an approximate age of A.D. 1027-1285. Research suggests the Steed-Kisker phase is part of the Central Plains tradition, a hunter-gatherer-gardener adaptive system of the Central Plains region (not a single ethnic group). The precedent for other Steed-Kisker phase human remains was set by the Smithsonian Institution's National Museum of Natural History (NMNH) based on archeological, physical anthropological, and oral history evidence and consultation with Tribes. This was to effect a joint repatriation of the Steed-Kisker site human remains to the Iowa Tribe of Oklahoma; Kaw Nation, Oklahoma; Otoe-Missouria Tribe of Indians, Oklahoma; Pawnee Nation of Oklahoma; and Ponca Tribe of Indians of Oklahoma. The implication is that the Steed-Kisker phase has a shared group identity with Northern Caddoans and with both Dhegiha and Chiwere Siouans.

Determinations Made by Kansas State University

Officials of Kansas State University have determined that:

• Pursuant to 25 U.S.C. 3001(9), the human remains described in this notice represent the physical remains of a minimum of 79 individuals of Native American ancestry.

• Pursuant to 25 U.S.C. 3001(3)(A), the 60 objects described in this notice are reasonably believed to have been placed with or near individual human remains at the time of death or later as part of the death rite or ceremony.

• Pursuant to 25 U.S.C. 3001(2), there is a relationship of shared group identity that can be reasonably traced between the Native American human remains and associated funerary objects and the Iowa Tribe of Kansas and Nebraska; Iowa Tribe of Oklahoma; Kaw Nation, Oklahoma; Otoe-Missouria Tribe of Indians, Oklahoma; Pawnee Nation of Oklahoma; and Ponca Tribe of Indians of Oklahoma.

Additional Requestors and Disposition

Lineal descendants or representatives of any Indian Tribe or Native Hawaiian organization not identified in this notice who wish to request transfer of control of these human remains and existing associated objects should submit a written request with information in support of the request to Dr. Lauren Ritterbush, Department of Sociology, Anthropology and Social Work, Kansas State University, 204 Waters Hall, 1603 Old Claflin Place, Manhattan, KS 66506-4003, telephone (785) 532 6865, email lritterb@ksu.edu, by October 23, 2017. After that date, if no additional requestors have come forward, transfer of control of the human remains and associated object to the Iowa Tribe of Kansas and Nebraska; Iowa Tribe of Oklahoma; Kaw Nation, Oklahoma; Otoe-Missouria Tribe of Indians, Oklahoma; Pawnee Nation of Oklahoma, and Ponca Tribe of Indians of Oklahoma may proceed.

Kansas State University is responsible for notifying the Iowa Tribe of Kansas and Nebraska; Iowa Tribe of Oklahoma; Kaw Nation, Oklahoma; Otoe-Missouria Tribe of Indians, Oklahoma; Pawnee Nation of Oklahoma; and Ponca Tribe of Indians of Oklahoma that this notice has been published.

Dated: August 1, 2017.
Melanie O'Brien,
Manager, National NAGPRA Program.

[FR Doc. 2017-20292 Filed 9-21-17; 8:45 am]

BILLING CODE 4312-52-P